NATIONAL SCIENCE FOUNDATION

Special Emphasis Panel in Design, Manufacture, and Industrial Innovation; Notice of Meeting

In accordance with the Federal Advisory Committee Act (Pub. L. 92-463, as amended), the National Science Foundation announces the following meeting:

Name: Special Emphasis Panel in Design, Manufacture, and Industrial Innovation—(1194).

Date and Time: April 24, 2001, 8 a.m.-5:30 p.m.

Place: Room 310, National Science Foundation 4201 Wilson Boulevard, Arlington, VA 22230.

Type of Meeting: Closed.

Contact Person: Dr. George Hazelrigg, Program Director, DMII, (703) 292-8330, National Science Foundation, 4201 Wilson Boulevard, Arlington, VA 22230.

Purpose of Meeting: To provide advice and recommendations concerning proposals submitted to NSF for financial support.

Agenda: To review and evaluate ITR (Information Technology Research) proposals as part of the selection process for awards.

Reason for Closing: The proposals being reviewed include information of proprietary of confidential nature, including technical information, financial data such as salaries,and personal information concerning individuals associated with the proposals. These matters that are exempt under 5 U.S.C. 552b(c), (4) and (6) of the Government in the Sunshine Act.

Dated: March 27, 2001.
Susanne Bolton,
Committee Management Officer.

[FR Doc. 01-7925 Filed 3-29-01; 8:45 am]

BILLING CODE 7555-01-M